DEPARTMENT OF THE INTERIOR

National Park Service

[NPS-WASO-NAGPRA-NPS0025997; PPWOCRADN0-PCU00RP14.R50000]

Notice of Inventory Completion: American Museum of Natural History, New York, NY

AGENCY: National Park Service, Interior.

ACTION: Notice.

SUMMARY: The American Museum of Natural History has completed an inventory of human remains and associated funerary objects, in consultation with the appropriate Indian Tribes or Native Hawaiian organizations, and has determined that there is cultural affiliation between the human remains and associated funerary objects and present-day Indian Tribes or Native Hawaiian organizations. Lineal descendants or representatives of any Indian Tribe or Native Hawaiian organization not identified in this notice that wish to request transfer of control of these human remains and associated funerary objects should submit a written request to the American Museum of Natural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the American Museum of Natural History at the address in this notice by September 10, 2018.

ADDRESSES: Nell Murphy, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3003, of the completion of inventories of human remains and associated funerary objects under the control of the American Museum of Natural History, New York, NY. The human remains and associated funerary objects were removed from Mercer County, NJ, and Richmond County, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the American Museum of Natural History professional staff in consultation with representatives of the Delaware Nation, Oklahoma, and the Delaware Tribe of Indians. The Delaware Nation, Oklahoma, and the Delaware Tribe of Indians invited the Stockbridge Munsee Community, Wisconsin, to attend the consultation meeting, but they did not participate.

History and Description of the Remains

In 1897, human remains representing, at minimum, three individuals were removed from the top soil of Trench D in Lalor Field, Lalor Estate, South of Trenton, Mercer County, NJ. The human remains were excavated by Ernest Volk during an American Museum of Natural History (AMNH) sponsored expedition. The AMNH acquired the individuals that same year. No known individuals were identified. The human remains include a sub-adult who is represented by a single element and two adults who are represented by cranial and post-cranial elements. The sex of these individuals cannot be determined. Two associated funerary objects—two pieces of pottery—were found with these human remains. One of these pottery pieces is a spall with no markings on its surface, and the other is small and fragmentary.

The top soil of Trench D at Lalor Field consists of late Middle Woodland, Late Woodland, and early historic deposits. Thus, it is highly likely that these human remains can be assigned to the Terminal Middle Woodland or later. These human remains were determined to be Native American based on their archeological context and collection history.

In 1909, human remains, representing at minimum, 16 individuals, were removed from the Bowman's Brook site, Mariner's Harbor, Staten Island, Richmond County, NY, by Alanson Skinner. The AMNH acquired these individuals as a gift that same year. No known individuals were identified. These individuals include three sub-adults, one adult male, 10 adults of indeterminate sex and two individuals of indeterminate sex and age. There are no associated funerary objects.

Bowman's Brook is a multi-component site, comprising part of the larger Mariner's Harbor site complex on the northwestern shore of Staten Island. Consisting of five distinguishable levels, its occupation spans the Middle and Late Archaic, Early and Middle Woodland, and the Late Woodland component for which the site is best known, the Bowman's Brook phase. Skinner's excavations were focused on the uppermost level. Radiocarbon dates obtained in 1986 indicate that the burials belong to the Late Woodland period; and date from A.D. 1083±153 to A.D. 1340±70. These human remains were determined to be Native American based on their archeological context and collection history.

In 1895, human remains representing at minimum, 24 individuals and 167 associated funerary objects were removed from Burial Ridge, Tottenville, Staten Island, Richmond County, NY. These individuals were collected by George H. Pepper and M.H. Saville as part of an AMNH sponsored expedition. The museum accessioned the human remains and funerary objects that same year. No known individuals were identified. The human remains include one adult female, six adult males, two adults who may be male, 10 adults of indeterminate sex and five sub-adults. The 167 associated funerary objects include: 14 bone points, three stone points; eight turtle shells; five sherds; 24 pieces of animal bone; two pieces of worked bone; one antler piece; one flint arrow; two pieces of mica; one flint implement; six flint blanks for arrowheads; 13 leaf-shaped flint pieces; 11 flint pieces; three stone implements; one piece of smoky quartz; seven pieces of deer antler; five deer bones; one lynx mandible; one piece of red clay; 53 pieces of beaver teeth; one block of sand with shells; two valves of clam shells and two oyster shells.

Around 1895, human remains representing, at minimum, two individuals, were removed from a location presumed to be Burial Ridge, Tottenville, Staten Island, Richmond County, New York, NY. These human remains were probably collected by George H. Pepper and M.H. Saville as part of an AMNH sponsored expedition. The museum likely accessioned the human remains that same year. No known individuals were identified. The human remains include two adults of indeterminate sex. There are no associated funerary objects.

In 1900, human remains, representing at minimum two individuals and one associated funerary object were removed from Burial Ridge, Tottenville, Staten Island, Richmond County, NY by Mark Raymond Harrington. The AMNH acquired the human remains and funerary objects as a gift from F.W. Putnam in 1909. No known individuals were identified. The human remains include one sub-adult and one adult of indeterminate age. The one associated funerary object is a piece of deer bone.

The human remains from Burial Ridge, Tottenville, were determined to be Native American based on archeological context, associated funerary objects and collection history. While Burial Ridge at Tottenville, Staten Island has Archaic through early Contact Period components, contextual information and scholarly literature indicate that the human remains date to the Terminal Middle Woodland and Late Woodland Periods. Radiocarbon dates reinforce this interpretation: One individual dates to the Terminal Middle Woodland, three additional individuals and two nearby features date to the Late Woodland. The individuals and associated funerary objects described in this Notice date to the Terminal Middle Woodland or Late Middle Woodland periods.

Oral tradition recounts the Delaware migration into the region from the west or northwest. Archeological and linguistic evidence indicates the arrival of Delawarean-speakers in the Delaware Valley and Staten Island no earlier than the Terminal Middle Woodland (A.D. 500-800). Information presented by the Delaware Nation, Oklahoma and the Delaware Tribe of Indians indicates that these three locales were traditionally occupied by the Delaware until progressive removals westward began in the early 1700s.

Based on oral tradition, linguistic and archeological evidence and information presented during multiple consultations, the American Museum of Natural History has determined that a cultural affiliation exists between the human remains and associated funerary objects and the Delaware (Lenape) people.

Determinations Made by the American Museum of Natural History

Officials of the American Museum of Natural History have determined that:

• Pursuant to 25 U.S.C. 3001(9), the human remains described in this notice represent the physical remains of 47 individuals of Native American ancestry.

• Pursuant to 25 U.S.C. 3001(3)(A), the 170 objects described in this notice are reasonably believed to have been placed with or near individual human remains at the time of death or later as part of the death rite or ceremony.

• Pursuant to 25 U.S.C. 3001(2), there is a relationship of shared group identity that can be reasonably traced between the Native American human remains and associated funerary objects and Delaware Nation, Oklahoma; Delaware Tribe of Indians; and Stockbridge Munsee Community, Wisconsin.

Additional Requestors and Disposition

Lineal descendants or representatives of any Indian Tribe or Native Hawaiian organization not identified in this notice that wish to request transfer of control of these human remains and associated funerary objects should submit a written request with information in support of the request to Nell Murphy, American Museum of Natural History, Central Park West at 79th Street, New York, NY 10024, telephone (212) 769-5837, email nmurphy@amnh.org, by September 10, 2018. After that date, if no additional requestors have come forward, transfer of control of the human remains and associated funerary objects to the Delaware Nation, Oklahoma; Delaware Tribe of Indians; and Stockbridge-Munsee Community, Wisconsin, may proceed.

The American Museum of Natural History is responsible for notifying the Delaware Nation, Oklahoma; Delaware Tribe of Indians; and Stockbridge-Munsee Community, Wisconsin, that this notice has been published.

Dated: July 10, 2018.
Melanie O'Brien,
Manager, National NAGPRA Program.

[FR Doc. 2018-17217 Filed 8-9-18; 8:45 am]

BILLING CODE 4312-52-P